POSTAL REGULATORY COMMISSION

[Docket No. MC2009-22; Order No. 200]

Mail Classification Changes

AGENCY: Postal Regulatory Commission.

ACTION: Notice.

SUMMARY: The Commission is noticing a recently-filed Postal Service request to make minor modifications to the Mail Classification Schedule. The changes affect Global Express Guaranteed service. This notice addresses procedural steps associated with this filing.

DATES: Comments are due April 16, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On April 3, 2009, the Postal Service filed a formal notice with the Commission concerning two changes in classification for Global Express Guaranteed (GXG) service pursuant to 39 CFR 3020.90 et seq.¹ The Postal Service's notice states that it is changing the minimum dimensional requirements for GXG service in Mail Classification Schedule (MCS) section 2205.2 which will allow mail pieces that are smaller than the current dimensions to be accepted as long as the shipping label fits on the face of the mail piece, and it is adding Libya as a new service country destination. Libya is being assigned to country group 4.

¹ See Notice of the United States Postal Service of Classification Change, April 3, 2009 (Notice). The Notice is available on the Commission's Web site, http://www.prc.gov, under Daily Listings for April 3, 2009.

The Postal Service asserts that these classification changes are consistent with the requirements of 39 U.S.C. 3642, and further proposes conforming language to implement these changes for incorporation into the MCS.

Pursuant to rule 3020.91 and 39 CFR 3020.92, the Commission provides notice of the Postal Service's filing, affording interested persons an opportunity to express views and offer comments on whether the planned changes are inconsistent with 39 U.S.C. 3642. Comments are due April 16, 2009.

39 CFR 3020.91 requires the Postal Service to file notice of proposed changes with the Commission no less than 15 days prior to the effective date of the proposed change. The Notice indicates that these changes are effective no sooner than 15 days after April 3, 2009, the date of the Notice.

It is Ordered:

1. Docket No. MC2009-22 is established to consider the Postal Service Notice referred to in the body of this Order.

2. The Commission appoints Paul L. Harrington as Public Representative to represent the interests of the general public in this proceeding.

3. Comments by interested persons in these proceedings are due no later than April 16, 2009.

4. The Secretary shall arrange for publication of this Order in the Federal Register.

By the Commission.
Steven W. Williams,
Secretary.

[FR Doc. E9-8749 Filed 4-15-09; 8:45 am]

BILLING CODE